SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before October 20, 2003.

ADDRESSES: Send all comments regarding whether these information collections are necessary for the proper performance of the function of the agency, whether the burden estimates are accurate, and if there are ways to minimize the estimated burden and enhance the quality of the collections, to Sandra Johnston, Program Analyst, Office of Financial Assistance, Small Business Administration, 409 3rd Street SW., Suite 8300, Washington, DC 20416.

FOR FURTHER INFORMATION CONTACT: Sandra Johnston, Program Analyst, 202-205-7528 or Curtis B. Rich, Management Analyst, 202-205-7030.

SUPPLEMENTARY INFORMATION: Title: “Secondary Participation Guaranty Agreement.”

Description of Respondents: Participating Lenders used these forms to apply for initial issuance of an SBA Guarantee Interest Certificate.

Form No: 1086.

Annual Responses: 12,500.

Annual Burden: 46,875.

Title: “Survey of Job Creation and Retention in the DELTA Program.”

Description of Respondents: Small Firms that receive a SBA DELTA Loan.

Form No: 1989.

Annual Responses: 33.

Annual Burden: 8.

ADDRESSES: Send all comments regarding whether this information collection is necessary for the proper performance of the function of the agency, whether the burden estimates are accurate, and if there are ways to minimize the estimated burden and enhance the quality of the collection, to Cynthia Pitts, Program Analyst, Office of Disaster Assistance, Small Business Administration, 409 3rd Street SW., Suite 6050, Washington, DC 20416.

FOR FURTHER INFORMATION CONTACT: Cynthia Pitts, Program Analyst, 202-205-7570 or Curtis B. Rich, Management Analyst, 202-205-7030.

SUPPLEMENTARY INFORMATION: Title: “Military Reservist Economic Injury Disaster Loan.”

Description: Military Reservist Economic Injury Disaster Loan.

Form No: 5R.

Annual Responses: 2,500.

Annual Burden: 5,000.

ADDRESSES: Send all comments regarding whether this information collection is necessary for the proper performance of the function of the agency, whether the burden estimates are accurate, and if there are ways to minimize the estimated burden and enhance the quality of the collection, to Kimberly Mace, Administrative Assistant, Office of Advisory Councils, Small Business Administration, 409 3rd Street SW., 7th Floor, Washington, DC 20416.

FOR FURTHER INFORMATION CONTACT: Kimberly Mace, Administrative Assistant, 202-401-8252 or Curtis B. Rich, Management Analyst, 202-205-7030.

SUPPLEMENTARY INFORMATION: Title: “U.S. Small Business Administration Advisory Committee Membership-Nominee Information.”

Description: To collect information for Candidates for Advisory Council.

Form No: 898.

Annual Responses: 500.

Annual Burden: 83.

Jacqueline White,
Chief, Administrative Information Branch.

[FR Doc. 03-21290 Filed 8-19-03; 8:45 am]

BILLING CODE 8025-01-P